DEPARTMENT OF COMMERCE

National Oceanic and Atmospheric Administration

[RTID 0648-XC037]

North Pacific Fishery Management Council; Public Meeting

AGENCY: National Marine Fisheries Service (NMFS), National Oceanic and Atmospheric Administration (NOAA), Commerce.

ACTION: Notice of webconference.

SUMMARY: The North Pacific Fishery Management Council's (Council) Enforcement Committee will hold a webconference.

DATES: The Enforcement Committee will begin on Thursday, June 2, 2022, From 1 p.m. to 3 p.m., Alaska Time.

ADDRESSES: The meeting will be by webconference. Join online through the link at https://meetings.npfmc.org/Meeting/Details/2939.

Council address: North Pacific Fishery Management Council, 1007 W 3rd Ave., Anchorage, AK 99501-2252; telephone: (907) 271-2809.

Instructions for attending the meeting via webconference are given under Connection Information, below.

FOR FURTHER INFORMATION CONTACT: Jon McCracken, Council staff; email: jon.mccracken@noaa.gov. For technical support, please contact our Council administrative staff, email: npfmc.admin@noaa.gov.

SUPPLEMENTARY INFORMATION:

Agenda

Thursday, June 2, 2022

The Enforcement Committee agenda will include: (a) Review the OLE Alaska Division 5-year priorities; (b) Observer Annual Report for 2021 (Enforcement Chapter); (c) the Trawl EM Analysis; and (d) other business. The agenda is subject to change, and the latest version will be posted at https://meetings.npfmc.org/Meeting/Details/2939 prior to the meeting, along with meeting materials.

Connection Information

You can attend the meeting online using a computer, tablet, or smart phone; or by phone only. Connection information will be posted online at: https://meetings.npfmc.org/Meeting/Details/2939. For technical support, please contact our administrative staff, email: npfmc.admin@noaa.gov.

Public Comment

Public comment letters will be accepted and should be submitted electronically to https://meetings.npfmc.org/Meeting/Details/2939.

Authority: 16 U.S.C. 1801 et seq.

Dated: May 12, 2022.
Tracey L. Thompson,
Acting Deputy Director, Office of Sustainable Fisheries, National Marine Fisheries Service.

[FR Doc. 2022-10596 Filed 5-17-22; 8:45 am]

BILLING CODE 3510-22-P